DEPARTMENT OF TRANSPORTATION

Office of the Secretary

[Docket No. DOT-OST-2015-0076]

Request for Comments

AGENCY: Office of the Secretary, U.S. Department of Transportation.

ACTION: Notice and request for comments.

SUMMARY: In accordance with the Paperwork Reduction Act of 1995 (44 U.S.C. 3501 et seq.), this notice announces that the U.S. Department of Transportation (DOT) will forward the Information Collection Request (ICR) abstracted below to the Office of Management and Budget (OMB) for reinstatement with change of a previously approved collection. The ICR describes the nature of the information collection and its expected cost and burden hours. The OMB approved the form in 2009 with its renewal required by September 30, 2012. Subsequently, DOT was given approval of the form until August 31, 2014. The renewal period then lapsed; therefore, the form expired. The Federal Register Notice with a 60-day comment period soliciting comments on the form renewal was published on April 29, 2015, [FR Vol. 80, No. 82, page 23855]. No comments were received. This notice includes corrections and updates to the 60-day published notice.

DATES: Comments on this notice must be received by August 26, 2015.

ADDRESSES: Interested persons are invited to submit comments regarding this proposal to the DOT/OST Desk Officer, Office of Information and Regulatory Affairs, Office of Management and Budget, Docket Library, Room 10102, 725 17th Street NW., Washington, DC 20503, or by email to oira_submission@omb.eop.gov.

FOR FURTHER INFORMATION CONTACT: Tami L. Wright, Associate Director, Compliance Operations Division (S-34), Departmental Office of Civil Rights, Office of the Secretary, U.S. Department of Transportation, 1200 New Jersey Avenue SE., Washington, DC 20590, 202-366-9370.

SUPPLEMENTARY INFORMATION:

Form Title(s): Individual Complaint of Employment Discrimination Form.

Form Number: DOT F 1050-8.

OMB Control Number: 2105-0056.

Abstract: The DOT will utilize the form to collect information necessary to process Equal Employment Opportunity (EEO) discrimination complaints filed by employees, former employees, and applicants for employment with the Department. These complaints are processed in accordance with the Equal Employment Opportunity Commission's regulations, 29 CFR part 1614, as amended. The DOT will use the form to: (a) Request requisite information from the individual for processing his or her EEO employment discrimination complaint; and (b) obtain information to identify an individual or his or her attorney or other representative, if appropriate. An individual's filing of an EEO employment complaint is solely voluntary. The DOT estimates that it takes an individual approximately one hour to complete the form.

Type of Request: Reinstatement with change of a previously approved collection.

Affected Public: Job applicants filing EEO employment discrimination complaints.

Total Annual Estimated Burden: 10 hours.

Frequency of Collection: An individual's filing of an EEO complaint is solely voluntary.

Comments are Invited on: (a) Whether the proposed collection of information is reasonable for the proper performance of the EEO functions of the Department; (b) the accuracy of the Department's estimate of the burden of the proposed information collection, including the validity of methodology and assumptions used; (c) ways to enhance the quality, utility, and clarity of the information to be collected; and (d) ways to minimize the burden of the collection of information on those who are to respond, including use of appropriate, automated, electronic, mechanical, or other technology. Comments should be addressed to the address in the preamble. All responses to this notice will be summarized and included in the request for Office of Management and Budget approval. All comments will also become a matter of public record.

Issued in Washington, DC, on July 21, 2015.
Patricia Lawton,
PRA Clearance Officer, U.S. Department of Transportation.

BILLING CODE 4910-9X-P

[FR Doc. 2015-18398 Filed 7-24-15; 8:45 am]

BILLING CODE 4910-9X-C